FEDERAL COMMUNICATIONS COMMISSION

47 CFR Parts 2 and 5

[ET Docket Nos. 10-236 and 06-155; Report No. 2982]

Petition for Reconsideration of Action in Rulemaking Proceeding

AGENCY: Federal Communications Commission.

ACTION: Petition for reconsideration.

SUMMARY: In this document, Petitions for Reconsideration have been filed in the Commission's Rulemaking proceeding by Michael J. Marcus on behalf of Marcus Spectrum Solutions LLC, by Charles S. Farlow on behalf of Medtronic, Inc., and by James S. Blitz on behalf Sirius XM Radio Inc., and EchoStar Technologies Inc.

DATES: Oppositions to the Petitions must be filed on or before July 16, 2013. Replies to an opposition must be filed on or before July 26, 2013.

ADDRESSES: Federal Communications Commission, 445 12th Street SW., Washington, DC 20554.

FOR FURTHER INFORMATION CONTACT: Rodney Small, Office of Engineering and Technology, 202-418-2452, Rodney.Small@fcc.gov (mailto:Rodney.Small@fcc.gov).

SUPPLEMENTARY INFORMATION: This is a summary of Commission's document, Report No. 2982, released June 7, 2013. The full text of Report No. 2982 is available for viewing and copying in Room CY-B402, 445 12th Street SW., Washington, DC or may be purchased from the Commission's copy contractor, Best Copy and Printing, Inc. (BCPI) (1-800-378-3160). The Commission will not send a copy of this Notice pursuant to the Congressional Review Act, 5 U.S.C. 801(a)(1)(A), because this Notice does not have an impact on any rules of particular applicability.

Subjects: Promoting Expanded Opportunities for Radio Experimentation and Market Trials under Part 5 of the Commission's Rules and Streamlining Other Related Rules; 2006 Biennial Review of Telecommunications Regulations—Part 2 Administered by the Office of Engineering and Technology, FCC 13-15, published at 78 FR 25138, April 29, 2013, in ET Docket No. 10-236 and ET Docket No. 06-155, published pursuant to 47 CFR 1.429(e). See also 47 CFR 1.4(b)(1) of the Commission's rules.

Number of Petitions Filed: 3.

Federal Communications Commission.
Marlene H. Dortch,
Secretary, Office of the Secretary, Office of Managing Director.

[FR Doc. 2013-15684 Filed 6-28-13; 8:45 am]

BILLING CODE 6712-01-P